DEPARTMENT OF JUSTICE

[OMB Number 1125-NEW]

Agency Information Collection Activities; Proposed eCollection; eComments Requested; Evaluation of the Justice AmeriCorp Legal Services for Unaccompanied Children Program

AGENCY: Executive Office for Immigration Review, Department of Justice.

ACTION: 30-day notice.

SUMMARY: The Department of Justice (DOJ), Executive Office for Immigration Review, will be submitting the following information collection request to the Office of Management and Budget (OMB) for review and approval in accordance with the Paperwork Reduction Act of 1995. This proposed information collection was previously published in the Federal Register at 80 FR 29, pages 7879-7880, February 12, 2015, allowing for a 60-day comment period.

DATES: Comments are encouraged and will be accepted for an additional 30 days until May 27, 2015.

FOR FURTHER INFORMATION CONTACT: If you have additional comments especially on the estimated public burden or associated response time, suggestions, or need a copy of the proposed information collection instrument with instructions or additional information, please contact Jean King, Acting General Counsel, Executive Office for Immigration Review, U.S. Department of Justice, Suite 2600, 5107 Leesburg Pike, Falls Church, Virginia 20530; telephone: (703) 305-0470. Written comments and/or suggestions can also be directed to the Office of Management and Budget, Office of Information and Regulatory Affairs, Attention Department of Justice Desk Officer, Washington, DC 20530 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of this information collection:

1. Type of Information Collection: New Voluntary Collection.

2. The Title of the Form/Collection: Evaluation of the justice AmeriCorp Legal Services for Unaccompanied Children Program.

3. The agency form number, if any, and the applicable component of the Department sponsoring the collection: The applicable component within the Department of Justice is the Office of Legal Access Programs, Executive Office for Immigration Review.

4. Affected public who will be asked or required to respond, as well as a brief abstract: This information collection is part of the Evaluation of the justice AmericCorp (jAC) Leal Services for Unaccompanied Children Program (“Program”), and is funded by the Executive Office for Immigration Review (EOIR), U.S. Department of Justice (DOJ), in cooperation with the Corporation for National and Community Services (CNCS). The Program is intended to provide legal services to children under the age of 16 who: (1) Are not in the custody of the Office of Refugee Resettlement or the Department of Homeland Security, i.e. have been released to sponsors (who are sometimes parents or guardians) in the community; (2) have received a Notice to Appear in removal proceedings before EOIR; and, (3) have not had their cases consolidated with removal proceedings with a parent or legal guardian. The Program anticipates being able to provide services to 3,000 children in the first year, and 5,000 children annually every year thereafter. The information collection will be administered by the Vera Center on Immigration and Justice to provide performance measurement and evaluation services that will contribute to the efficiency and effectiveness of the Program, to address implementation challenges, to inform and improve program design, to modify program operations and direction, and to contribute to greater accountability and transparency. The Program will use four data collection methods: (1) Performance measurement data entered by jAC member organizations in a secure web-based server for the purpose of semi-annual reporting to DOJ; (2) qualitative interviews of jAC program managers and selected DOJ employees (e.g. immigration judges and court administrators) conducted by telephone and in person during site visits for the purpose of implementation evaluation; (3) qualitative interviews with a small sample of unaccompanied children, who are provided with legal representation by the jAC program to document their understanding of immigration proceedings as a result of participation in the program; and (4) a brief, non-identifiable survey of jAC members (staff attorneys) at the end of their terms of service to determine their satisfaction with participation in the program.

5. An estimate of the total number of respondents and the amount of time estimated for an average respondent to respond: An estimated 100 jAC members will take part in the survey annually. Based on similar surveys used by Vera to evaluate other programs, an average of 30 minutes per respondent is needed to complete the survey. The estimated range of burden for jAC members is expected to be between 15 minutes to 45 minutes for completion. An estimated 50 children will take part in the interview annually. The interview for assessing the child's understanding of immigration proceedings is estimated to take 1 hour per respondent to complete. The estimated range of burden for children interviewed is expected to be between 30 minutes and 1.5 hours for completion. The factors considered when creating the burden estimate were the young age of the children (between the ages of 12 and 16) and the fact that the interview would be conducted in-person. An estimated 200 jAC program stakeholders will take part in the interview annually. Based on similar interviews used by Vera to evaluate other programs, an average of 75 minutes per respondent is needed to complete the interview. The estimated range of burden for jAC program stakeholders is expected to be between 45 minutes to 1.5 hours for completion.

6. An estimate of the total public burden (in hours) associated with the collection: The estimated public burden associated with this collection is 350 hours. It is estimated that 100 jAC members will take 30 minutes to complete the survey; 50 children will take 1 hour to complete the interview; and 200 jAC stakeholders 75 minutes to complete the interview. The burden hours for collecting respondent data sum to 350 hours ((100 jAC members × 30 minutes = 50 hours) + (50 children × 1 hour = 50 hours) + (200 jAC stakeholders × 75 minutes = 250 hours)).

If additional information is required contact: Jerri Murray, Department Clearance Officer, United States Department of Justice, Justice Management Division, Policy and Planning Staff, Two Constitution Square, 145 N Street NE., 3E.405B, Washington, DC 20530.

Dated: April 22, 2015.
Jerri Murray,
Department Clearance Officer for PRA, U.S. Department of Justice.

[FR Doc. 2015-09677 Filed 4-24-15; 8:45 am]

BILLING CODE 4410-30-P